DEPARTMENT OF TRANSPORTATION

Federal Aviation Administration

14 CFR Part 39

[Docket No. FAA-2019-0021; Product Identifier 2018-NM-038-AD]

RIN 2120-AA64

Airworthiness Directives; AmSafe Inc. Seatbelts

AGENCY: Federal Aviation Administration (FAA), DOT.

ACTION: Notice of proposed rulemaking (NPRM).

SUMMARY: We propose to adopt a new airworthiness directive (AD) for all AmSafe Inc. seatbelts, as installed in, but not limited to, various airplanes and rotorcraft. This proposed AD was prompted by reports of multiple failed keepers on seatbelt hook assemblies. This proposed AD would require an inspection for affected parts, repetitive general visual inspections of the seatbelt hook assembly for damage, repetitive functional checks, and replacement of all affected parts. We are proposing this AD to address the unsafe condition on these products.

DATES: We must receive comments on this proposed AD by April 8, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact AmSafe Inc., 1043 N 47th Avenue, Phoenix, AZ 85043; telephone: 602-850-2850; fax: 602-850-2812; internet: https://www.amsafe.com. You may view this service information at the FAA, Transport Standards Branch, 2200 South 216th St., Des Moines, WA. For information on the availability of this material at the FAA, call 206-231-3195.

Examining the AD Docket

You may examine the AD docket on the internet at http://www.regulations.gov by searching for and locating Docket No. FAA-2019-0021; or in person at Docket Operations between 9 a.m. and 5 p.m., Monday through Friday, except Federal holidays. The AD docket contains this NPRM, the regulatory evaluation, any comments received, and other information. The street address for Docket Operations (phone: 800-647-5527) is in the ADDRESSES section. Comments will be available in the AD docket shortly after receipt.

FOR FURTHER INFORMATION CONTACT: Patrick Farina, Aerospace Engineer, Cabin Safety and Environmental Systems Section, FAA, Los Angeles ACO Branch, 3960 Paramount Boulevard, Lakewood, CA 90712-4137; phone: 562-627-5344; fax: 562-627-5210; email: Patrick.Farina@faa.gov.

SUPPLEMENTARY INFORMATION:

Comments Invited

We invite you to send any written relevant data, views, or arguments about this proposal. Send your comments to an address listed under the ADDRESSES section. Include “Docket No. FAA-2019-0021; Product Identifier 2018-NM-038-AD” at the beginning of your comments. We specifically invite comments on the overall regulatory, economic, environmental, and energy aspects of this NPRM. We will consider all comments received by the closing date and may amend this NPRM because of those comments.

We will post all comments we receive, without change, to http://www.regulations.gov, including any personal information you provide. We will also post a report summarizing each substantive verbal contact we receive about this NPRM.

Discussion

We have received a report indicating that failed keepers on seatbelt hook assemblies have been found on multiple transport category airplanes. These seatbelt hook assemblies might also be installed on other types of aircraft. The keepers have been found with the metal bridge above the spring bent or broken in a way that does not allow the seatbelt hook assemblies to be securely fastened to the seat structure. Failure of keepers on seatbelt hook assemblies, if not addressed, could result in the seatbelt disengaging from and detaching from the seat structure under certain conditions, and could result in injury to passengers or flightcrew.

Related Service Information Under 1 CFR Part 51

We reviewed AmSafe Safety Bulletin SB505960-01, Issue 5, dated August 6, 2018. The service information describes procedures for an inspection for affected parts, repetitive general visual inspections of the seatbelt hook assembly for damage (including compressed springs, bends, rotation or deformation of the bridge), repetitive functional checks and replacement. This service information is reasonably available because the interested parties have access to it through their normal course of business or by the means identified in the ADDRESSES section.

FAA's Determination

We are proposing this AD because we evaluated all the relevant information and determined the unsafe condition described previously is likely to exist or develop in other products of the same type designs.

Proposed AD Requirements

This proposed AD would require accomplishing the actions specified in the service information described previously, except as discussed under “Differences Between this Proposed AD and the Service Information.”

Differences Between This Proposed AD and the Service Information

AmSafe Safety Bulletin SB505960-01, Issue 5, dated August 6, 2018, specifies to return parts to the manufacturer. This proposed AD would not include that requirement.

Costs of Compliance

We estimate that this proposed AD affects 100,000 appliances installed on, but not limited to, various airplanes and rotorcraft of U.S. registry. We estimate the following costs to comply with this proposed AD:

Estimated Costs
Action | Labor cost | Parts cost | Cost per product | Cost on U.S. operators
Inspection for affected part | 1 work-hour × $85 per hour = $85 | $0 | $85 | $8,500,000.
Repetitive inspections and functional checks | 1 work-hour × $85 per hour = $85 per inspection cycle | 0 | $85 per inspection cycle | $8,500,000 per inspection cycle.
Replacement | 1 work-hour × $85 per hour = $85 | 28 | $113 | $11,300,000.

We estimate the following costs to do any necessary replacements that would be required based on the results of the proposed inspection. We have no way of determining the number of aircraft that might need these replacements:

On-Condition Costs
Action | Labor cost | Parts cost | Cost per product
Replacement | 1 work-hour × $85 per hour = $85 | $28 | $113

According to the manufacturer, some or all of the costs of this proposed AD may be covered under warranty, thereby reducing the cost impact on affected individuals. We do not control warranty coverage for affected individuals. As a result, we have included all known costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

AmSafe Inc. Seatbelts: Docket No. FAA-2019-0021; Product Identifier 2018-NM-038-AD.

(a) Comments Due Date

We must receive comments by April 8, 2019.

(b) Affected ADs

None.

(c) Applicability

This AD applies to AmSafe Inc. seatbelts installed on various airplanes and rotorcraft, certificated in any category, including, but not limited to, the airplanes of the manufacturers specified in paragraphs (c)(1) through (c)(5) of this AD.

(1) Airbus SAS

(2) The Boeing Company

(3) Bombardier, Inc.

(4) Embraer S.A.

(5) Fokker Services B.V.

(d) Subject

Air Transport Association (ATA) of America Code 25, Equipment/furnishings.

(e) Unsafe Condition

This AD was prompted by reports of multiple failed keepers on seatbelt hook assemblies. We are issuing this AD to address failed keepers on seatbelt hook assemblies. Failure of keepers on seatbelt hook assemblies, if not addressed, could result in the seatbelt disengaging from and detaching from the seat structure under certain conditions, and could result in injury to passengers or flightcrew.

(f) Compliance

Comply with this AD within the compliance times specified, unless already done.

(g) Inspection for Affected Parts

For any seatbelt buckle half and connector half having a part number listed in Table 1 of paragraph “1.1., Effectivity” of AmSafe Safety Bulletin SB505960-01, Issue 5, dated August 6, 2018: Within 180 days after the effective date of this AD, do a general visual inspection of each seatbelt buckle half and connector half to determine whether the seatbelt hook assembly has exposed springs, in accordance with AmSafe Safety Bulletin SB505960-01, Issue 5, dated August 6, 2018.

(1) An affected part is any seatbelt buckle half or connector half that has a seatbelt hook assembly with exposed springs.

(2) An unaffected part is any seatbelt buckle half or connector half that has a seatbelt hook assembly without exposed springs.

(h) Repetitive Inspections and Functional Checks

Within 180 days after the effective date of this AD, do a general visual inspection of each affected part for damage to the seatbelt hook assembly and do a functional check in accordance with AmSafe Safety Bulletin SB505960-01, Issue 5, dated August 6, 2018.

(1) If any seatbelt hook assembly is damaged or the part fails the functional check, before further flight, replace the part with a new or serviceable part. If an affected part is installed, repeat the inspection and functional check at intervals not to exceed 24 months or at the next scheduled heavy maintenance check, whichever occurs first, until the actions specified in paragraph (i) of this AD are done.

(2) If an affected part is undamaged and passes the functional check, repeat the inspection and functional check at intervals not to exceed 24 months or at the next scheduled heavy maintenance check, whichever occurs first, until the actions specified in paragraph (i) of this AD are done.

(i) Terminating Action

Within 58 months after the effective date of this AD, replace all affected parts with unaffected parts in accordance with AmSafe Safety Bulletin SB505960-01, Issue 5, dated August 6, 2018. Replacing all affected parts with unaffected parts on a seatbelt hook assembly terminates the repetitive inspections and functional checks specified in paragraph (h) of this AD for that seatbelt hook assembly. Replacing all affected parts with unaffected parts on an airplane or rotorcraft terminates the repetitive inspections and functional checks specified in paragraph (h) of this AD for that airplane or rotorcraft.

(j) Parts Installation Prohibition

No person may install on any seat an affected part as of the time specified in paragraph (j)(1), (j)(2), or (j)(3) of this AD, as applicable.

(1) For seats on which, as of the effective date of this AD any affected part is found during the inspection required by paragraph (g) of this AD: After replacement of the affected part(s) with unaffected part(s).

(2) For seats on which no affected parts are found during the inspection required by paragraph (g) of this AD: As of the date of the inspection required by paragraph (g) of this AD.

(3) For seats on which both the seatbelt buckle half and connector half have part numbers not listed in Table 1 of paragraph “1.1., Effectivity” of AmSafe Safety Bulletin SB505960-01, Issue 5, dated August 6, 2018: As of the effective date of this AD.

(k) No Return of Parts

Although AmSafe Safety Bulletin SB505960-01, Issue 5, dated August 6, 2018, specifies to return parts to the manufacturer, this AD does not require the return of the parts to the manufacturer.

(l) Credit for Previous Actions

This paragraph provides credit for the actions specified in paragraphs (g), (h), and (i) of this AD, if those actions were performed before the effective date of this AD using the service information specified in paragraphs (l)(1) or (l)(2), of this AD.

(1) AmSafe Safety Bulletin SB505960-01, Issue 3, dated April 19, 2018.

(2) AmSafe Safety Bulletin SB505960-01, Issue 4, dated July 12, 2018.

(m) Alternative Methods of Compliance (AMOCs)

(1) The Manager, Los Angeles ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (n)(1) of this AD. Information may be emailed to: 9-ANM-LAACO-AMOC-Requests@faa.gov.

(2) Before using any approved AMOC, notify your appropriate principal inspector, or lacking a principal inspector, the manager of the local flight standards district office/certificate holding district office.

(n) Related Information

(1) For more information about this AD, contact Patrick Farina, Aerospace Engineer, Cabin Safety and Environmental Systems Section, FAA, Los Angeles ACO Branch, 3960 Paramount Boulevard, Lakewood, CA 90712-4137; phone: 562-627-5344; fax: 562-627-5210; email: Patrick.Farina@faa.gov.

(2) For service information identified in this AD, contact AmSafe Inc., 1043 N 47th Avenue, Phoenix, AZ 85043; telephone: 602-850-2850; fax: 602-850-2812; internet: https://www.amsafe.com. You may view this service information at the FAA, Transport Standards Branch, 2200 South 216th St., Des Moines, WA. For information on the availability of this material at the FAA, call 206-231-3195.

Issued in Des Moines, Washington, on February 8, 2019.
Michael Kaszycki,
Acting Director, System Oversight Division, Aircraft Certification Service.

[FR Doc. 2019-02933 Filed 2-21-19; 8:45 am]

BILLING CODE 4910-13-P